DEPARTMENT OF DEFENSE

Department of the Army; Corps of Engineers

Board on Coastal Engineering Research

AGENCY: Department of the Army, DoD.

ACTION: Notice of meeting.

SUMMARY: In accordance with Section 10(a)(2) of the Federal Advisory Committee Act (Pub. L. 92-463), announcement is made of the following committee meeting:

Name of Committee: Board on Coastal Engineering Research.

Date of Meeting: November 12-13, 2009.

Place: Rooms 3M60 and 3M70, GAO Building, Headquarters, U.S. Army Corps of Engineers, 441 G Street NW., Washington, DC 20314.

Time: 9 a.m. to 4 p.m. (November 12, 2009).

8 a.m. to 12 p.m. (November 13, 2009).

FOR FURTHER INFORMATION CONTACT: Inquiries and notice of intent to attend the meeting may be addressed to COL Gary E. Johnston, Executive Secretary, Engineer Research and Development Center, Waterways Experiment Station, 3909 Halls Ferry Road, Vicksburg, MS 39180-6199.

SUPPLEMENTARY INFORMATION: The Board provides broad policy guidance and review of plans and fund requirements for the conduct of research and development of research projects in consonance with the needs of the coastal engineering field and the objectives of the Chief of Engineers.

Proposed Agenda: This meeting is devoted to an Executive Session of the Board to review in detail actions underway on three Board initiatives or concerns, which include: (1) To review the Data Collection and Dissemination Framework being developed jointly with the National Ocean Service; (2) to review the proposed PgMP for the Sustainable Approach for Coastal and Estuarine Systems (SUSTAIN); and (3) to review the interim Report on National Shoreline Management Study and the plans for completing the study.

The meeting is open to the public, but since the meeting will be held in a government facility and seating capacity of the meeting room is limited, advance notice of intent to attend is required. A list of attendees will be provided to security.

Gary E. Johnston,
Colonel, U.S. Army Corps of Engineers, Executive Secretary.

[FR Doc. E9-24437 Filed 10-8-09; 8:45 am]

BILLING CODE 3720-58-P